ENVIRONMENTAL PROTECTION AGENCY

[EPA-HQ-OAR-2004-0501; FRL-8737-3]

Agency Information Collection Activities; Submission to OMB for Review and Approval; Comment Request; Reporting Requirements Under EPA's Green Power Partnership and Combined Heat and Power (CHP) Partnership, ICR Number 2173.02 (Renewal), OMB Control No. 2060-0578

AGENCY: Environmental Protection Agency.

ACTION: Notice.

SUMMARY: In compliance with the Paperwork Reduction Act (PRA) (44 U.S.C. 3501 et seq.), this document announces that EPA is planning to submit a request to renew an existing approved information request ICR to the Office of Management and Budget (OMB) for review and approval. This ICR is scheduled to expire on April 30, 2009. Before submitting the ICR to OMB for review and approval EPA is soliciting comments on specific aspects of the proposed information collection as described below.

DATES: Additional comments may be submitted on or before December 1, 2008.

ADDRESSES: Submit your comments, referencing Docket ID No. EPA-HQ-OAR-2004-0501, to (1) EPA online using http://www.regulations.gov (preferred method), by e-mail to a-and-r-docket@epamail.epa.gov, or by mail to: EPA Docket Center, Environmental Protection Agency, Air and Radiation Docket and Information Center, MC 6102T, 1200 Pennsylvania Avenue, NW., Washington, DC 20460, and (2) OMB by mail to: Office of Information and Regulatory Affairs, Office of Management and Budget (OMB), Attention: Desk Officer for EPA, 725 17th Street, NW., Washington, DC 20503.

FOR FURTHER INFORMATION CONTACT: Blaine Collison, Climate Protection Partnerships Division, Office of Atmospheric Programs, 6202J, Environmental Protection Agency, 1200 Pennsylvania Avenue, NW., Washington, DC 20460; telephone number: (202) 343-9139; fax number: (202) 565-2134; e-mail address collision.blaine@epa.gov.

SUPPLEMENTARY INFORMATION: EPA has submitted the following ICR to OMB for review and approval according to the procedures prescribed in 5 CFR 1320.12. On November 10, 2005 (70 FR 68441), EPA sought comments on this ICR pursuant to 5 CFR 1320.8(d). EPA received no comments. Any additional comments on this ICR should be submitted to EPA and OMB within 30 days of this notice.

EPA has established a public docket for this ICR under Docket ID No. EPA-HQ-OAR-2004-0501, which is available for online viewing at http://www.regulations.gov, or in person viewing at the Air and Radiation Docket and Information Center in the EPA Docket Center (EPA/DC), EPA West Building, Room B102, 1301 Constitution Avenue, NW., Washington, DC. The EPA/DC Public Reading Room is open from 8 a.m. to 4:30 p.m., Monday through Friday, excluding legal holidays. The telephone number for the Reading Room is 202-566-1744, and the telephone number for the Air and Radiation Docket is 202-566-1742.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or on paper, will be made available for public viewing at http://www.regulations.gov as EPA receives them and without change, unless the comment contains copyrighted material, Confidential Business Information (CBI), or other information whose public disclosure is restricted by statute. For further information about the electronic docket, go to http://www.regulations.gov.

Title: Reporting Requirements Under EPA's Green Power Partnership and Combined Heat and Power (CHP) Partnership.

ICR numbers: EPA ICR No. 2173.02, OMB Control No. 2060-0532.

ICR Status: This ICR is scheduled to expire on April 30, 2009. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, and included on the related collection instrument or form, if applicable.

Abstract: In an effort to aid implementation of the President's May 2001 National Energy Strategy, as well as the President's February 2002 Climate Change Strategy, EPA launched two new partnership programs with industry and other stakeholders: the Green Power Partnership and the Combined Heat and Power (CHP) Partnership. These voluntary partnership programs encourage organizations to invest in clean, efficient energy technologies, including renewable energy and combined heat and power. To continue to be successful, it is critical that EPA collect information from Green Power and CHP Partners to ensure these organizations are meeting their renewable energy and CHP goals and to assure the creditability of these voluntary partnership programs.

EPA has developed this ICR to obtain authorization to collect information from organizations participating in the Green Power Partnership and CHP Partnership. Organizations that join these programs voluntarily agree to the following respective actions: (1) Designating a Green Power or CHP liaison and filling out a Partnership Agreement or Letter of Intent (LOI) respectively, (2) for the Green Power Partnership, reporting to EPA, on an annual basis, their progress toward their green power commitment via a 2-page reporting form; (3) for the CHP Partnership, reporting to EPA information on their existing CHP projects and CHP development activity. EPA uses the data obtained from its partners to assess the success of these programs in achieving their national energy and greenhouse gas (GHG) reduction goals. Partners are organizational entities that have volunteered to participate in either Partnership program.

Burden Statement: The annual public reporting and recordkeeping burden for this collection of information is estimated to equal 5905 hours and to average 3.24 hours per year per respondent. The average number of annual burden hours on first year partners for each type of one-time response is: 8.8 hours for a Partnership Agreement (a one-time burden for Green Power); 3.5 hours for a Letter of Intent (a one-time burden for CHP Partners), 2.6 hours for the Partner Yearly Report for the GPP, 3.94 hours for the Partner Yearly Report for the CHP Partnership.

Partners from both programs may also submit voluntary updates of simple information, such as contact information or company profiles, via the Web site. These updates would take from 15 minutes to 0.5 hours per response. A subset of partners may participate in brief (i.e., 15 minute) telephone calls with EPA to clarify questions pertaining to the Partnership Agreement or LOI, Green Power Partner Yearly Report or CHP Partner project reporting. All of these activities are included in the annual burden estimate.

The estimated number of annual respondents averaged over three (3) years is 1,820 which includes an average of 1558 for the Green Power Partnership and 262 respondents for the CHP Partnership.

There are no capital or start-up costs associated with this information collection. The average annual operation and maintenance cost resulting for this collection of information is $3 per respondent. The average annual labor cost is $287 per respondent. The resulting total annual cost averaged over the three year period is $521,937. In the previous ICR the total cost averaged over the 3-year period was $298,866. The total cost estimate increase for Partners is due to an increase in the number of Partners and increases in wages.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities:

Estimated Number of Respondents: 1,820.

Frequency of Response: Annually, on Occasion, One time.

Estimated Total Annual Hour Burden: 5,905.

Estimated Total Annual Cost: $663,992, which includes $0 annualized Capital Startup costs, $5,544 annualized Operating and Maintenance (O&M) costs and $658,448 annualized Labor costs. Changes in the Estimates: Since the last ICR renewal, both the Green Power Partnership and CHP Partnership have introduced program efficiencies to reduce program burden and simplified collection forms into pre-populated spreadsheets or documents. As a result of these changes, the average number of hours per Partner has decreased from 3.4 hours to 3.24 hours but the total hourly burden still increased because of an increase in the number of Partners. For perspective on the magnitude of partner growth, the number of Partners at the end of 2004 was 865, whereas by year-end there will be an estimated 1,286.

The total cost estimate over the 3 year period for this renewal ICR is $1,991,978, or an average of $663,992 per year, of which $16,632 is O&M costs. The total cost to GPP and CHP Partners is $1,549,178 (16,632 is O&M), or $516,393 (5,544 is O&M) per year. In the previous 2004 ICR renewal, the total cost over the 3 year period was $1,101,749. The total cost estimate increase for Partners is due to an increase in the number of Partners and increases in wages.

Dated: October 24, 2008.
Kathleen Hogan,
Director, Climate Protection Partnership Division.

[FR Doc. E8-26017 Filed 10-30-08; 8:45 am]

BILLING CODE 6560-50-P